DEPARTMENT OF COMMERCE

International Trade Administration

[A-201-822]

Stainless Steel Sheet and Strip in Coils From Mexico: Rescission of Antidumping Duty Administrative Review

AGENCY: Import Administration, International Trade Administration, Department of Commerce.

SUMMARY: In response to a request from an interested party, the Department of Commerce (“the Department”) initiated an administrative review of the antidumping duty order covering stainless steel sheet and strip in coils from Mexico. The period of review is July 1, 2009, through June 30, 2010. Based on the withdrawal of request for review submitted by Allegheny Ludlum Corporation, North American Stainless, and AK Steel Corporation (collectively “petitioners”), we are now rescinding this administrative review.

DATES: Effective Date: April 4, 2011.

FOR FURTHER INFORMATION CONTACT: Olga Carter, John Drury or Angelica Mendoza, AD/CVD Operations, Office 7, Import Administration, International Trade Administration, U.S. Department of Commerce, 14th Street and Constitution Avenue, NW., Washington, DC 20230; telephone: (202) 482-8221, (202) 482-0195 or (202) 482-3019 respectively.

SUPPLEMENTARY INFORMATION:

Background

On July 1, 2010, the Department published a notice announcing an opportunity for interested parties to request an administrative review of the antidumping duty order on stainless steel sheet and strip in coils from Mexico. See Antidumping or Countervailing Duty Order, Finding, or Suspended Investigation; Opportunity To Request Administrative Review, 75 FR 38074 (July 1, 2010). On July 30, 2010, petitioners filed a request that the Department initiate an administrative review of the antidumping duty order on stainless steel sheet and strip in coils from Mexico with respect to ThyssenKrupp Mexinox, S.A. de C.V. (“Mexinox”). Based on petitioners' request, on August 31, 2010, the Department published a notice of initiation of the administrative review of the antidumping duty order on stainless steel sheet and strip in coils from Mexico. See Initiation of Antidumping and Countervailing Duty Administrative Reviews and Deferral of Initiation of Administrative Review, 75 FR 53274 (August 31, 2010).

Rescission of Review

In accordance with 19 CFR 351.213(d)(1), the Department will rescind an administrative review, “in whole or in part, if a party that requested a review withdraws the request within 90 days of the date of publication of notice of initiation of the requested review. The Secretary may extend this time limit if the Secretary decides that it is reasonable to do so.” On March 21, 2011, petitioners withdrew their request for a review of the order with respect to Mexinox. Although the party submitted a letter withdrawing their review request after the 90-day regulatory deadline, the Department finds it is reasonable to extend the deadline for withdrawing the review request because it has not yet devoted significant time or resources to the review.

Because of the withdrawal of the request for review and because we received no other requests for review, we are rescinding the administrative review of the order with respect to Mexinox. This rescission is in accordance with 19 CFR 351.213(d)(1).

Assessment

The Department will instruct U.S. Customs and Border Protection (“CBP”) to assess antidumping duties on all appropriate entries. For Mexinox, the antidumping duties shall be assessed at rates equal to the cash deposit of estimated antidumping duties required at the time of entry, or withdrawal from warehouse, for consumption, in accordance with 19 CFR 351.212(c)(1)(i). The Department intends to issue appropriate assessment instructions to CBP 15 days after publication of this notice.

Notifications

This notice serves as a final reminder to importers of their responsibility under 19 CFR 351.402(f) to file a certificate regarding the reimbursement of antidumping duties prior to liquidation of the relevant entries during this review period. Failure to comply with this requirement could result in the Department's presumption that reimbursement of antidumping duties occurred and the subsequent assessment of doubled antidumping duties.

This notice also serves as a reminder to parties subject to administrative protective order (“APO”) of their responsibility concerning destruction of proprietary information disclosed under an APO in accordance with 19 CFR 351.305(a)(3). Timely written notification of the destruction of APO materials or conversion to judicial protective order is hereby requested. Failure to comply with the regulations and terms of an APO is a violation which is subject to sanction.

This notice is published in accordance with sections 751(a)(1) and 777(i)(1) of the Tariff Act of 1930, as amended, and 19 CFR 351.213(d)(4).

Dated: March 28, 2011.
Christian Marsh,
Deputy Assistant Secretary for Antidumping and Countervailing Duty Operations.

[FR Doc. 2011-7793 Filed 4-1-11; 8:45 am]

BILLING CODE 3510-DS-P